DEPARTMENT OF VETERANS AFFAIRS

[OMB Control No. 2900-New (NVS)]

Proposed Information Collection (National Survey of Veterans, Active Duty Service Members, Activated National Guard and Reserve Members, Family Members and Survivors) Activity; Comment Request

AGENCY: Office of Policy and Planning, Department of Veterans Affairs.

ACTION: Notice.

SUMMARY: The Office of Policy and Planning, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed to satisfy the requirements detailed in Public Law 108-454, section 805. This project will collect information on awareness, demographics, health care, disability, life insurance, burial benefits, employment, education and training, and vocational rehabilitation. This project will provide information needed to support VA policy, planning, and quality improvement decisions.

DATES: Written comments and recommendations on the proposed collection of information should be received on or before April 13, 2009.

ADDRESSES: Submit written comments on the collection of information through http://www.Regulations.gov; or to Maribel Aponte, Office of Policy and Planning, Department of Veterans Affairs, 810 Vermont Ave., NW., Washington, DC 20420 or e-mail maribel.aponte@va.gov. Please refer to “OMB Control No. 2900-NEW (NSV)” in any correspondence. During the comment period, comments may be viewed online through the Federal docket Management System (FDMS) at http://www.Regulations.gov.

FOR FURTHER INFORMATION CONTACT: Maribel Aponte at (202) 461-5790 or FAX (202) 273-5993.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy and Planning invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: National Survey of Veterans, Active Duty Service Members, Activated National Guard and Reserve Members, Family Members and Survivors (NSV).

OMB Control Number: 2900-NEW (NSV).

Type of Review: New collection.

Abstract: The NSV will be conducted to obtain needed information that is not available in VA administrative files. The survey will be used to help VA improve services for beneficiaries and their families. For the first time, the NSV will include active duty service members; activated National Guard and Reserves; and family members and survivors in addition to veterans. The scope of the survey will be expanded to address the requirements of Public Law 108-454, section 805, to assess awareness of veterans' benefits and services. The NSV provides VA, Congress, stakeholders, and the public more accurate descriptions and assessments of the characteristics of the veteran population to evaluate existing programs and policies, to establish baseline measures before planning and implementing new programs and policies, and to monitor progress of programs and policies and their impacts on the population. The NSV will provide information to support VA policy, planning, and quality improvement decisions.

Affected Public: Individuals or households.

Estimated Total Annual Burden: 14,165 hours.

Estimated Average Burden per Respondent: 10.81 minutes.

Frequency of Response: On occasion.

Estimated Number of Respondents: 78,599.

Dated: February 2, 2009.
By direction of the Secretary.
Denise McLamb,
Program Analyst, Enterprise Records Service.

[FR Doc. E9-2706 Filed 2-9-09; 8:45 am]

BILLING CODE 8320-01-P